FEDERAL COMMUNICATIONS COMMISSION

47 CFR Part 25

[GN Docket Nos. 18-122; FCC 20-22; FRS 18976]

Expanding Flexible Use of the 3.7 to 4.2 GHz Band

AGENCY: Federal Communications Commission.

ACTION: Final rule; announcement of compliance date.

SUMMARY: In this document, the Commission announces that the Office of Management and Budget (OMB) has approved information collection requirements associated with the transition of operations in one frequency band to another, adopted in the Federal Communications Commission's (Commission) 3.7 GHz Report and Order, FCC 20-22, and that compliance with the new rules is now required. This document is consistent with the 3.7 GHz Report and Order, FCC 20-22, which states that the Commission will publish a document in the Federal Register announcing a compliance date for the new rule sections and revise the Commission's rules accordingly.

DATES: Compliance with 47 CFR 25.138(a) and (b) and 25.147(a) through (c), published at 85 FR 22804 on April 23, 2020, is required on April 2, 2021.

FOR FURTHER INFORMATION CONTACT: Kerry Murray, Satellite Division, International Bureau, at (202) 418-0734 or Kerry.Murray@fcc.gov.

SUPPLEMENTARY INFORMATION: This document announces that OMB approved the information collection requirements in 47 CFR 25.138(a) and (b) and 25.147(a) through (c), on March 24, 2021. These rules were adopted in the 3.7 GHz Report and Order, FCC 20-22, published at 85 FR 22804 on April 23, 2020. The Commission publishes this document as an announcement of the compliance date of these new rules.

If you have any comments on the burden estimates listed below, or how the Commission can improve the collections and reduce any burdens caused thereby, please contact Cathy Williams, Federal Communications Commission, Room 1-C823, 445 12th Street SW, Washington, DC 20554, regarding OMB Control Number 3060-0678. Please include the OMB Control Number in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis: As required by the Paperwork Reduction Act of 1995 (44 U.S.C. 3507), the FCC is notifying the public that it received final OMB approval on March 24, 2021, for the information collection requirements contained in 47 CFR 25.138 and 25.147. Under 5 CFR part 1320, an agency may not conduct or sponsor a collection of information unless it displays a current, valid OMB Control Number. No person shall be subject to any penalty for failing to comply with a collection of information subject to the Paperwork Reduction Act that does not display a current, valid OMB Control Number. The OMB Control Number for the information collection requirements in 47 CFR 25.138 and 25.147, is 3060-0678. The foregoing notice is required by the Paperwork Reduction Act of 1995, Public Law 104-13, October 1, 1995.

The total annual reporting burdens and costs for the respondents are as follows:

OMB Control Number: 3060-0678.

OMB Approval Date: March 24, 2021.

OMB Expiration Date: March 31, 2024.

Title: Part 25 of the Federal Communications Commission's Rules Governing the Licensing of, and Spectrum Usage By, Commercial Earth Stations and Space Stations.

Form Number: FCC Form 312—Schedule A, FCC Form 312—Main, FCC Form 312—Schedule B, FCC Form 312-R, FCC Form 312-EZ.

Respondents: Business or other for-profit entities and Not-for-profit institutions.

Number of Respondents and Responses: 6,524 respondents; 6,573 responses.

Estimated Time per Response: 0.5-80 hours.

Frequency of Response: On occasion, one time, and annual reporting requirements; third-party disclosure requirement; recordkeeping requirement.

Obligation to Respond: Required to obtain or retain benefits. The Commission has statutory authority for the information collection requirements under 47 U.S.C. 154, 301, 302, 303, 307, 309, 310, 319, 332, 605, and 721.

Total Annual Burden: 44,988 hours.

Total Annual Cost: $16,612,586.

Privacy Impact Assessment: No impact(s).

Nature and Extent of Confidentiality: There is no need for confidentiality pertaining to the information collection requirements in this collection, in accordance with the Commission's rules, 47 CFR 0.459.

Needs and Uses: On March 3, 2020, the Commission released a Report and Order and Order of Proposed Modification, FCC 20-22, GN Docket No. 18-122, titled “Expanding Flexible Use of the 3.7 to 4.2 GHz Band.” In this Report and Order and Order of Proposed Modification, the Commission updated its rules by reforming the use of the 3.7-4.2 GHz band, also known as the C-Band. The new rules repack existing satellite operations into the upper 200 megahertz of the band (and reserve a 20 megahertz guard band), making a significant amount of spectrum—280 megahertz or more than half of the band—available for flexible use throughout the contiguous United States. The relevant rule revisions for purposes of this information collection are the addition of §§ 25.138 and 25.147 of the Commission's rules. In updating this information collection, we are not accounting for any changes to the number of respondents, burden hours, and annual cost related to these rule revisions since the addition of §§ 25.138 and 25.147 set forth rules for transition of operations from one frequency band to another.

Federal Communications Commission.
Marlene Dortch,
Secretary, Office of the Secretary.

[FR Doc. 2021-06868 Filed 4-1-21; 8:45 am]

BILLING CODE 6712-01-P